DEPARTMENT OF ENERGY

Federal Energy Regulatory Commission

[Docket No. IC03-715-001, FERC Form 715]

Commission Information Collection Activities, Proposed Collection; Comment Request; Submitted for OMB Review

March 1, 2004.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of the expiration date. Any interested person may file comments directly with OMB and should address a copy of those comments to the Commission as explained below. The Commission is in receipt of comments from two entities in response to an earlier Federal Register notice of September 18, 2003 (68 FR 54722), and has responded to the comments in its submission to OMB.

DATES: Comments on the collection of information are due by March 31, 2004.

ADDRESSES: Address comments on the collection of information to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-7856. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC03-715-001.

Documents filed electronically via the Internet must be prepared in WordPerfect, MS Word, Portable Document Format, or ASCII format. To file the document, access the Commission's Web site at www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC Form 715 “Annual Transmission Planning and Evaluation Report.”

2. Sponsor: Federal Energy Regulatory Commission

3. Control No.: 1902-0171.

The Commission is now requesting that OMB approve and reinstate with a three-year extension of the expiration date, with no changes to the information collection requirements. However, the Commission will conduct a pilot allowing as an option the electronic submission of maps in lieu of paper. The Commission believes this will create greater efficiency and clarity of data when complying with this section of the information collection requirements. The information filed with the Commission is mandatory.

4. Necessity of the Collection of Information: Submission of the information is necessary to enable the Commission to carry out its responsibilities in implementing the statutory provisions of section 213 of the Federal Power Act. Section 213(b) requires the Commission to collect annually from transmitting utilities sufficient information about their transmission systems to inform transmission customers, State and Federal regulatory authorities of available capacity and constraints. Form 715 also supports the Commission's expanded responsibilities under sections 211, 212, 304, 307(a), 309 and 311 of the Federal Power Act as amended, for reviewing reliability issues, market structure relationships, for rate and other regulatory proceedings.

In response to the events of September 11, 2001, the Commission took several steps to identify and limit access to information concerning the nation's energy infrastructure. In Order No. 630 (68 FR 9857, March 2, 2003, FERC Statutes and Regulations ¶ 31,140, at p. 30,261.) the Commission established procedures for gaining access to critical energy infrastructure information, information it defined as “Information about proposed or existing critical infrastructure that: (i) Relates to the production, generation, transmission, or distribution of energy; (ii) could be useful to a person in planning an attack on critical infrastructure; (iii) is exempt from mandatory disclosure under the Freedom of Information Act, 5 U.S.C.; (iv) does not simply give the location of the critical infrastructure.” (67 FR 58000, FERC Statutes and Regulations ¶ 32,564, at p. 34.548.) The information contained in the FERC Form 715 was found to meet this definition and therefore classified as CEII with restricted access to the public. The Commission implements the filing requirements in the Code of Regulations (CFR) under 18 CFR parts 141.300.

5. Respondent Description: The respondent universe currently comprises 183 companies (on average per year) subject to the Commission's jurisdiction.

6. Estimated Burden: 29,280 total hours, 183 respondents (average per year), 1 response per respondent, and 160 hours per response (average).

7. Estimated Cost Burden to respondents: 29,280 hours/2080 hours per years × $107,185 per year = $1,508,835. The cost per respondent is equal to $8,245.

Statutory Authority: Section 213(b), Federal Power Act (FPA), 16 U.S.C. 824l.

Linda Mitry,
Acting Secretary.

[FR Doc. E4-461 Filed 3-3-04; 8:45 am]

BILLING CODE 6717-01